NUCLEAR REGULATORY COMMISSION

Advisory Committee on the Medical Uses of Isotopes: Meeting Notice

AGENCY: U.S. Nuclear Regulatory Commission.

ACTION: Notice of meeting.

SUMMARY: The U.S. Nuclear Regulatory Commission will convene a meeting of the Advisory Committee on the Medical Uses of Isotopes (ACMUI) on February 19-20, 2002. The meeting will take place at the address provided below. The topics of discussion will relate to the status of the revised 10 CFR part 35, Medical Use of Byproduct Material.

DATES: ACMUI will hold a public meeting on Tuesday, February 19, 2002, from 11 a.m. to 12:30 p.m. From 2 p.m. to 4 p.m. on February 19, the ACMUI will meet with the Commission in the Commissioners' conference room. On Wednesday, February 20, 2002, the ACMUI will continue its public meeting from 8 a.m. to 5 p.m.

Address for Commission Briefing: U.S. Nuclear Regulatory Commission, One White Flint North Building, Commissioners' Conference Room 1G16, 11555 Rockville Pike, Rockville, MD, 20852-2738.

Address for Public Meeting: U.S. Nuclear Regulatory Commission, Two White Flint North Building, Conference Room T2B3, 11545 Rockville Pike, Rockville, MD 20852-2738.

FOR FURTHER INFORMATION CONTACT: Angela R. Williamson, telephone (301) 415-5030; e-mail arw@nrc.gov of the Office of Nuclear Material Safety and Safeguards, U.S. Nuclear Regulatory Commission, Washington, DC 20555-0001.

Conduct of the Meeting

Manuel D. Cerqueira, M.D., will chair the meeting. Dr. Cerqueira will conduct the meeting in a manner that will facilitate the orderly conduct of business. The following procedures apply to public participation in the meeting:

1. Persons who wish to provide a written statement should submit a reproducible copy to Angela Williamson, U.S. Nuclear Regulatory Commission, Two White Flint North, Mail Stop T8F5, 11545 Rockville Pike, Rockville, MD 20852-2738. Submittals must be postmarked by February 11, 2002, and must pertain to the topics on the agenda for the meeting.

2. Questions from members of the public will be permitted during the meeting, at the discretion of the Chairman.

3. The transcript and written comments will be available for inspection on NRC's Web site, www.nrc.gov, and at the NRC Public Document Room, 11555 Rockville Pike, Rockville, MD 20852-2738, telephone (800) 397-4209, on or about April 22, 2002. Minutes of the meeting will be available on or about April 15, 2002.

This meeting will be held in accordance with the Atomic Energy Act of 1954, as amended (primarily Section 161a); the Federal Advisory Committee Act (5 U.S.C. App); and the Commission's regulations in Title 10, U.S. Code of Federal Regulations, Part 7.

Dated: January 28, 2002.
Andrew L. Bates,
Advisory Committee Management Officer.

[FR Doc. 02-2501 Filed 1-31-02; 8:45 am]

BILLING CODE 7590-01-P